DEPARTMENT OF ENERGY

Federal Energy Regulatory Commission

[Docket No. PF08-4-000]

Williston Basin Interstate Pipeline Company; Notice of Intent To Prepare an Environmental Assessment for the Proposed Sheyenne Expansion Project, Request for Comments on Environmental Issues, and Notice of Public Site Visit

January 25, 2008.

The staff of the Federal Energy Regulatory Commission (FERC or Commission) will prepare an environmental assessment (EA) that will identify and address the environmental impacts that could result from the construction and operation of the Sheyenne Expansion Project proposed by Williston Basin Interstate Pipeline Company (Williston Basin). The EA will be used by the Commission in its decision-making process to determine whether the project is in the public convenience and necessity.

This notice announces the opening of the scoping process the Commission will use to gather input from the public and interested agencies on the project. Your input will help determine which issues need to be evaluated in the EA. Please note that the scoping period for this Notice will close on February 25, 2008. Details on how to submit comments are provided in the Public Participation section of this notice.

Additionally, as part of the scoping process, we will also have a public site visit at the locations described below, to receive comments on the proposed project. Please note that attendees at the site visit must obtain their own transportation for the site visit.

Date and time | Location
8 a.m., February 6, 2008 | Governor's Inn Parking Lot, 2050 Governors Dr, Casselton, ND 58012.
1 p.m., February 6, 2008 | Lone Steer Hotel Parking Lot, I-94 & Hwy #3N, Exit 200, Steele, ND 58012.
3 p.m., February 6, 2008 | Bismarck Compressor Station, 850 57th Ave NW., Bismarck, ND 58503.

This notice is being sent to affected landowners; federal, state, and local government agencies; elected officials; environmental and public interest groups; Native American tribes; other interested parties; and local libraries and newspapers; all of which are encouraged to submit comments on the proposed project. Details on how to submit comments are provided in the Public Participation section of this notice.

If you are a landowner receiving this notice, you may be contacted by a Williston Basin representative about the acquisition of an easement to construct, operate, and maintain the proposed project facilities. The pipeline company would seek to negotiate a mutually acceptable agreement. However, if the project is approved by the FERC, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

Williston Basin proposes to construct the new Steele Compressor Station in Kidder County, North Dakota; install additional compression at the existing Bismark Compressor Station in Burleigh County, North Dakota; undertake minor modifications to the existing Cleveland Compressor Station Stutsman County, North Dakota; and construct and operate approximately 6,400 feet of 8-inch-diameter pipeline lateral and metering facilities to connect to the proposed Tharaldson ethanol plant in Cass County, North Dakota. The Project would increase firm capacity into Williston Basin's subsystem by 9,650 million cubic foot per day, approximately 96% of the addition capacity would be for the Tharaldson ethanol plant. Williston Basin plans to file the application by May 1, 2008 and requests that the Commission issue a certificate by September 1, 2008 to meet an in-service date of December 15, 2008.

The general location of the proposed pipeline is shown in the figure included as Appendix.¹

¹ The appendices referenced in this notice are not being printed in the Federal Register. Copies are available from the Commission's Web site at the eLibrary link or from the Commission's Public Reference Room or by calling (202) 502-8371. For instructions on connecting to eLibrary refer to the public participation section of this notice. For instructions on connecting to eLibrary, refer to the “Additional Information” section at the end of this notice. Copies of the appendices were sent to all those receiving this notice in the mail. Requests for detailed maps of the proposed facilities should be made directly to Williston Basin.

Land Requirements for Construction

As proposed, the typical construction right-of-way for the project lateral would be 75-feet-wide. Following construction, Williston Basin has proposed to retain a 50-foot-wide permanent right-of-way for operation of the project.

Based on preliminary information, construction and operation of the proposed lateral and associated aboveground facilities would affect about 21.6 acres of land. Following construction, about 6.4 acres would be maintained as permanent right-of-way, and about 5 acres of land would be maintained as new aboveground facility sites. The remaining temporary workspace would be restored and allowed to revert to its former use. Construction at the existing Compressor Stations would be within the current fenced areas.

The EA Process

The National Environmental Policy Act (NEPA) requires the Commission to take into account the environmental impacts that could result from the approval of an interstate natural gas pipeline. By this notice, we ² are also asking federal, state, and local agencies with jurisdiction and/or special expertise with respect to environmental issues to formally cooperate with us in the preparation of the EA.

² “We,” “us,” and “our” refer to the environmental staff of the FERC's Office of Energy Projects.

The purpose of the Pre-filing Process is to seek public and agency input early in the project planning phase and encourage involvement by interested stakeholders in a manner that allows for the early identification and resolution of environmental issues. We will work with all interested stakeholders to identify and attempt to address issues before Williston Basin files its application with the FERC. A diagram depicting the environmental review process for the proposed project is attached to this notice as Appendix 2.

NEPA also requires the FERC to discover and address concerns the public may have about proposals. This process is referred to as “scoping.” The main goal of the scoping process is to focus the analysis in the EA on the important environmental issues. By this Notice of Intent, we are requesting public comments on the scope of the issues to address in the EA. All comments received will be considered during the preparation of the EA. As part of the Pre-filing Process review, Williston Basin sponsored public open houses in the project area to explain the environmental review process to interested stakeholders and take comments about the project.

In the EA we will discuss impacts that could occur as a result of the construction and operation of the proposed project under these general headings:

• Geology and soils;

• Water resources;

• Wetlands and vegetation;

• Fish, wildlife, threatened and endangered species;

• Land use, recreation, and visual resources;

• Air quality and noise;

• Cultural resources;

• Reliability and safety; and

• Cumulative environmental impacts.

In the EA, we will also evaluate possible alternatives to the proposed project or portions of the project, and make recommendations on how to lessen or avoid impacts on affected resources.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

Although no formal application has been filed, the FERC staff has already initiated its NEPA review under the Commission's Pre-filing Process. The purpose of the Pre-filing Process is to encourage the early involvement of interested stakeholders and to identify and resolve issues before an application is filed with the FERC.

Public Participation

You can make a difference by providing us with your specific comments or concerns about the proposed project. By becoming a commentor, your concerns will be addressed in the EA and considered by the Commission. Your comments should focus on the potential environmental effects, reasonable alternatives (including alternative facility sites and pipeline routes), and measures to avoid or lessen environmental impact. The more specific your comments, the more useful they will be. To ensure that your comments are timely and properly recorded, please carefully follow these instructions:

• Send an original and two copies of your letter to: Kimberly D. Bose, Secretary, Federal Energy Regulatory Commission, 888 First St., NE., Room 1A, Washington, DC 20426.

• Label one copy of your comments for the attention of Gas Branch 3, DG2E.

• Reference Docket No. PF08-4-000 on the original and both copies.

• Mail your comments so that they will be received in Washington, DC on or before February 25, 2008.

The Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

We may mail the EA for comment. If you are interested in receiving it, please return the Information Request (Appendix 3). If you do not return the Information Request, you will be taken off the mailing list.

Once Williston Basin formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's web site. Please note that you may not request intervenor status at this time. You must wait until a formal application is filed with the Commission.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

If you received this notice, you are on the environmental mailing list for this project. If you do not want to send comments at this time, but still want to remain on our mailing list, please return the Information Request (Appendix 3). If you do not return the Information Request, you will be removed from the Commission's environmental mailing list.

Availability of Additional Information

Additional information about the project is available from the Commission's Office of External Affairs, at 1-866-208-FERC or on the FERC Internet Web site (http://www.ferc.gov) using the “eLibrary” link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Kimberly D. Bose,
Secretary.

[FR Doc. E8-1736 Filed 1-30-08; 8:45 am]

BILLING CODE 6717-01-P